DEPARTMENT OF COMMERCE

National Oceanic and Atmospheric Administration

[I.D. 072701D]

Proposed Information Collection; Comment Request; Statement of Financial Interests, Regional Fishery Management Councils

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law. 104-13 (44 U.S.C. 3506 (c)(2)(A)).

DATES: Written comments must be submitted on or before October 1, 2001.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to Richard Surdi, F/SF5, RM: 13142, 1315 East-West Highway, Silver Spring MD 20910-3282 (phone 301-713-2337, ext. 169).

SUPPLEMENTARY INFORMATION:

I. Abstract

The Magnuson-Stevens Fishery Conservation and Management Act authorizes the establishment of Regional Fishery Management Councils to exercise sound judgment in the stewardship of fishery resources through the preparation, monitoring, and revision of such plans under circumstances (a) which will enable the States, the fishing industry, consumer and environmental organizations, and other interested persons to participate in, and advise on, the establishment and administration of such plans, and (b) which take into account the social and economic needs of the States. Section 302(j) of the Act requires that Council members appointed in accordance with Section 302 (b)(2) and Section 302 (b)(5) who are not subject to disclosure and recusal laws of an Indian Tribal Government disclose their financial interests in any Council fishery. These interests include harvesting, processing, or marketing activity that is being, or will be, undertaken within any fishery over which the Council concerned has jurisdiction.

A member required to disclose a financial interest shall not vote on a Council decision which would have a significant and predictable effect on such financial interest. A Council decision shall be considered to have a significant and predictable effect on a financial interest if there is a close causal link between the Council decision and an expected and substantially disproportionate benefit to the financial interest of the affected individual relative to the financial interest of other participants in the same gear type or sector of the fishery. An affected individual who may not vote may participate in Council deliberations relating to the decision after notifying the Council of the voting recusal and identifying the financial interest that would be affected.

II. Method of Collection

Respondents submit paper forms. With the exception of the Tribal Government nominees, Council nominees for appointment must provide and file a financial interest form as prescribed by the Secretary prior to the date of appointment. Seated Council members appointed by the Secretary, including the Tribal Government appointees, must file a financial interest form within 45 days of taking office and must file an update of their statements within 30 days of the time any such financial interest is acquired or substantially changed.

III. Data

OMB Number: 0648-0192.

Form Number: NOAA Form 88-195.

Type of Review: Regular submission.

Affected Public: Individuals or households.

Estimated Number of Respondents: 188.

Estimated Time Per Response: 35 minutes.

Estimated Total Annual Burden Hours: 110.

Estimated Total Annual Cost to Public: $565.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 27, 2001.
Madeleine Clayton,
Departmental Paperwork Clearance Officer, Office of the Chief Information Officer.

[FR Doc. 01-19356 Filed 8-1-01; 8:45 am]

BILLING CODE 3510-22-S